DEPARTMENT OF COMMERCE

International Trade Administration

[A-533-823, A-834-807, A-307-820]

Silicomanganese from India, Kazakhstan, and Venezuela: Final Results of Expedited Five-year (“Sunset”) Reviews of the Antidumping Duty Orders

AGENCY: Import Administration, International Trade Administration, Department of Commerce.

SUMMARY: On April 2, 2007, the Department of Commerce (“the Department”) published in the Federal Register the notice of initiation of the first five-year sunset reviews of the antidumping duty orders on silicomanganese from India, Kazakhstan, and Venezuela, pursuant to section 751(c) of the Tariff Act of 1930, as amended (“the Act”). See Initiation of Five-year (“Sunset”) Reviews, 72 FR 15652 (April 2, 2007) (“Notice of Initiation”). On the basis of notices of intent to participate and adequate substantive responses filed on behalf of domestic interested parties, and inadequate responses from respondent interested parties, the Department has conducted expedited sunset reviews of these orders pursuant to section 751(c)(3)(B) of the Act and 19 CFR 351.218(e)(1)(ii)(C). As a result of these sunset reviews, the Department finds that revocation of the antidumping duty orders is likely to lead to continuation or recurrence of dumping at the levels indicated in the “Final Results of Review” section of this notice.

EFFECTIVE DATE: August 2, 2007.

FOR FURTHER INFORMATION CONTACT: Martha Douthit or Dara Iserson, AD/CVD Operations, Office 6, Import Administration, International Trade Administration, U.S. Department of Commerce, 14th Street and Constitution Ave., NW., Washington, DC. 20230; telephone: (202) 482-5050, or (202) 482-4052, respectively.

SUPPLEMENTARY INFORMATION:

Background

The antidumping duty orders on silicomanganese from India, Kazakhstan, and Venezuela were published in the Federal Register on May 23, 2002. See Notice of Amended Final Determination of Sales at Less than Fair Value and Antidumping Duty Orders: Silicomanganese from India, Kazakhstan, and Venezuela, 67 FR 36149 (May 23, 2002). On April 2, 2007, the Department initiated the first sunset reviews of the antidumping duty orders on silicomanganese from India, Kazakhstan, and Venezuela, pursuant to section 751(c) of the Act. See Notice of Initiation. The Department received notices of intent to participate from Felman Producation Inc. (“Felman”), Eramet Marietta Inc. (“Eramet”) (collectively “domestic interested parties”), within the deadline specified in 19 CFR 351.218(d)(1)(i). Domestic interested parties claimed interested party status under section 771(9)(C) of the Act as producers of the subject merchandise.

On May 1 and May 2, 2007, the Department received substantive responses from domestic interested parties Felman and Eramet, respectively, within the deadline specified in 19 CFR 351.218(d)(3)(i). On May 8, 2007, the Department received a timely substantive response from Nava Bharat Ventures Limited (“Nava Bharat”), a respondent interested party from India.¹ Nava Bharat claimed interested party status under section 771(9)(A) of the Act as a producer/exporter of subject merchandise. On May 22, 2007, the Department determined that Nava Bharat did not provide an adequate response to the Notice of Initiation in accordance with 19 CFR 351.218(e)(1)(ii)(A) because its shipments accounted for less than 50 percent of exports of subject merchandise to the United States over the five calendar years preceding the initiation of this review. Pursuant to 19 CFR 351.218(e)(1)(ii)(C)(1), on the same day, the Department notified the International Trade Commission (“ITC”) of its adequacy determination. See Memorandum to Barbara E. Tillman from the Sunset Team, Sunset Review of the Antidumping Duty Order on Silicomanganese from India: Adequacy Determination, dated May 22, 2007. The Department, therefore, has conducted expedited sunset reviews of the antidumping duty orders pursuant to section 751(c)(3)(B) of the Act.

¹ Nava Bharat received an extension to May 8, 2007, to submit its substantive response.

Scope of the Orders

For purposes of these orders, the products covered are all forms, sizes and compositions of silicomanganese, except low-carbon silicomanganese, including silicomanganese briquettes, fines and slag. Silicomanganese is a ferroalloy composed principally of manganese, silicon and iron, and normally contains much smaller proportions of minor elements, such as carbon, phosphorous and sulfur. Silicomanganese is sometimes referred to as ferrosilicon manganese. Silicomanganese is used primarily in steel production as a source of both silicon and manganese. Silicomanganese generally contains by weight not less than 4 percent iron, more than 30 percent manganese, more than 8 percent silicon and not more than 3 percent phosphorous. Silicomanganese is properly classifiable under subheading 7202.30.0000 of the Harmonized Tariff Schedule of the United States (HTSUS). Some silicomanganese may also be classified under HTSUS subheading 7202.99.5040.

The low-carbon silicomanganese excluded from this scope is a ferro alloy with the following chemical specifications: minimum 55 percent manganese, minimum 27 percent silicon, minimum 4 percent iron, maximum 0.10 percent phosphorus, maximum 0.10 percent carbon and maximum 0.05 percent sulfur. Low-carbon silicomanganese is used in the manufacture of stainless steel and special carbon steel grades, such as motor lamination grade steel, requiring a very low carbon content. It is sometimes referred to as ferromanganese-silicon. Low-carbon silicomanganese is classifiable under HTSUS subheading 7202.99.5040. This scope covers all silicomanganese, regardless of its tariff classification. Although the HTSUS subheadings are provided for convenience and customs purposes, our written description of the scope remains dispositive.

Analysis of Comments Received

All issues raised in the substantive responses by parties to these sunset reviews are addressed in the Issues and Decision Memorandum for the Expedited Sunset Reviews of the Antidumping Duty Orders of Silicomanganese from India, Kazakhstan, and Venezuela; Final Results from Stephen J. Claeys, Deputy Assistant Secretary for Import Administration, to David M. Spooner, Assistant Secretary for Import Administration, dated concurrently with this notice (“Decision Memo”), which is hereby adopted in this notice. The issues discussed in the Decision Memo include the likelihood of continuation or recurrence of dumping and the rate likely to prevail if the orders were revoked. Parties can find a complete discussion of all issues raised in these sunset reviews and the corresponding recommendation in this public memorandum which is on file in B-099, the Central Records Unit, of the main Commerce building. In addition, a complete version of the Decision Memo can be accessed directly on the Department's Web page at http://ia.ita.doc.gov/frn. The paper copy and electronic version of the Decision Memo are identical in content.

Final Results of Reviews

The Department determines that revocation of the antidumping duty orders on silicomanganese from India, Kazakhstan, and Venezuela would be likely to lead to continuation or recurrence of dumping at the following duty rates:

Manufacturers/Exporters/Producers | Weighted-Average Margin (percent)
India
Nava Bharat | 15.32
Universal Ferro and Allied Chemicals, Ltd. | 20.53
All Others Rate | 17.74
Kazakhstan
Alloy 2000, S.A. | 247.88
Kazakhstan-Wide Rate | 247.88
Venezuela
Hornos Eléctricos de Venezuela, S.A. |
All Others Rate | 24.62

International Trade Commission (ITC) Notification

In accordance with section 752(c)(3) of the Act, we will notify the ITC of the final results of this expedited sunset review.

Notification Regarding Administrative Protective Order

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing this determination and notice in accordance with sections 751(c), 752, and 777(i) of the Act.

Dated: July 25, 2007.
David M. Spooner,
Assistant Secretary for Import Administration.

[FR Doc. E7-14947 Filed 8-1-07; 8:45 am]

BILLING CODE 3510-DS-S